DEPARTMENT OF AGRICULTURE

Natural Resources Conservation Service

Barataria Basin Landbridge Shoreline Protection Project Phases 1, 2, and 3 (BA-27) Jefferson and Lafourche Parishes, Louisiana

AGENCY: Natural Resources Conservation Service, USDA.

ACTION: Notice of finding of no significant impact.

SUMMARY: Pursuant to Section 102(2)(C) of the National Environmental Policy Act of 1969, the Council on Environmental Quality Guidelines (40 CFR part 1500), and the Natural Resources Conservation Service Guidelines (7 CFR part 650), the Natural Resources Conservation Service, Department of Agriculture, gives notice that an environmental impact statement is not being prepared for the Barataria Basin Landbridge Shoreline Protection Project Phases 1, 2, and 3 (BA-27), Jefferson and Lafourche Parishes, Louisiana.

FOR FURTHER INFORMATION CONTACT: Donald W. Gohmert, State Conservationist, Natural Resources Conservation Service, 3737 Government Street, Alexandria, Louisiana 71302; telephone (318) 473-7751.

SUPPLEMENTARY INFORMATION: The environmental assessment of the federally assisted action indicated that the project will not cause significant local, regional, or national impacts on the environment. As a result of these findings, Donald W. Gohmert, State Conservationist, has determined that the preparation and review of an environmental impact statement is not needed for this project.

This project includes the installation of 71,000 linear feet of shoreline protection to reduce or eliminate shoreline/bankline erosion for portions of Bayous Perot and Rigolettes, Little Lake, and Harvey Cutoff in Jefferson and Lafourche Parishes, Louisiana. It is predicted that the project would prevent the loss of 1,570 acres of brackish and intermediate marsh over 20 years.

The Finding of No Significant Impact (FONSI) has been forwarded to the Environmental Protection Agency and to various federal, state, and local agencies and interested parties. Copies of the FONSI are available at the above address. Information gathered during project development is on file and maybe reviewed by contacting Donald W. Gohmert.

No administrative action on the proposal will be taken until 30 days after the date of this publication in the Federal Register.

Dated: February 4, 2000.
Donald W. Gohmert,
State Conservationist.

[FR Doc. 00-3842 Filed 2-16-00; 8:45 am]

BILLING CODE 3410-16-M